DEPARTMENT OF ENERGY

Federal Energy Regulatory Commission

Combined Notice of Filings

Take notice that the Commission has received the following Natural Gas Pipeline Rate and Refund Report filings:

Filings Instituting Proceedings

Docket Numbers: RP19-913-000.

Applicants: Spire Storage West LLC.

Description: Compliance filing Spire Storage West LLC—Order No. 587-Y Compliance Filing to be effective 8/1/2019.

Filed Date: 3/27/19.

Accession Number: 20190327-5038.

Comments Due: 5 p.m. ET 4/8/19.

Docket Numbers: RP19-914-000.

Applicants: NEXUS Gas Transmission, LLC.

Description: § 4(d) Rate Filing: Mar2019 NegRate Cleanup for Name Changes to be effective 4/26/2019.

Filed Date: 3/27/19.

Accession Number: 20190327-5046.

Comments Due: 5 p.m. ET 4/8/19.

Docket Numbers: RP19-915-000.

Applicants: SG Resources Mississippi, L.L.C.

Description: Compliance filing SG Resources Mississippi, L.L.C.—Order No. 587-Y Compliance Filing to be effective 8/1/2019.

Filed Date: 3/27/19.

Accession Number: 20190327-5049.

Comments Due: 5 p.m. ET 4/8/19.

Docket Numbers: RP19-916-000.

Applicants: NEXUS Gas Transmission, LLC.

Description: § 4(d) Rate Filing: Negotiated Rate—Columbia 860005 releases eff 4-1-19 to be effective 4/1/2019.

Filed Date: 3/27/19.

Accession Number: 20190327-5072.

Comments Due: 5 p.m. ET 4/8/19.

Docket Numbers: RP19-917-000.

Applicants: Pine Prairie Energy Center, LLC.

Description: Compliance filing Pine Prairie Energy Center, LLC—Order No. 587-Y Compliance Filing to be effective 8/1/2019.

Filed Date: 3/27/19.

Accession Number: 20190327-5078.

Comments Due: 5 p.m. ET 4/8/19.

Docket Numbers: RP19-918-000.

Applicants: El Paso Natural Gas Company, L.L.C.

Description: § 4(d) Rate Filing: Negotiated Rate Agreement Update (SRP 2019) to be effective 4/1/2019.

Filed Date: 3/27/19.

Accession Number: 20190327-5079.

Comments Due: 5 p.m. ET 4/8/19.

Docket Numbers: RP19-919-000.

Applicants: ETC Tiger Pipeline, LLC.

Description: Compliance filing NAESB Version 3.1 Compliance to be effective 8/1/2019.

Filed Date: 3/27/19.

Accession Number: 20190327-5113.

Comments Due: 5 p.m. ET 4/8/19.

Docket Numbers: RP19-920-000.

Applicants: Fayetteville Express Pipeline LLC.

Description: Compliance filing NAESB Version 3.1 Compliance to be effective 8/1/2019.

Filed Date: 3/27/19.

Accession Number: 20190327-5120.

Comments Due: 5 p.m. ET 4/8/19.

Docket Numbers: RP19-921-000.

Applicants: Saavi Energy Solutions, LLC, Tucson Electric Power Company, Southwest Gas Corporation.

Description: JJoint Petition for Limited Waiver of Capacity Release Regulations and Policies, et al. of Saavi Energy Solutions, LLC, et al. under RP19-921.

Filed Date: 3/27/19.

Accession Number: 20190327-5129.

Comments Due: 5 p.m. ET 4/8/19.

Docket Numbers: RP19-922-000.

Applicants: Sea Robin Pipeline Company, LLC.

Description: Compliance filing NAESB Version 3.1 Compliance to be effective 8/1/2019.

Filed Date: 3/27/19.

Accession Number: 20190327-5223.

Comments Due: 5 p.m. ET 4/8/19.

Docket Numbers: RP19-923-000.

Applicants: Transwestern Pipeline Company, LLC.

Description: Compliance filing NAESB Version 3.1 Compliance to be effective 8/1/2019.

Filed Date: 3/27/19.

Accession Number: 20190327-5224.

Comments Due: 5 p.m. ET 4/8/19.

Docket Numbers: RP19-924-000.

Applicants: Transwestern Pipeline Company, LLC.

Description: § 4(d) Rate Filing: Negotiated Rate Filing (BP Energy) on 3-27-19 to be effective 4/1/2019.

Filed Date: 3/27/19.

Accession Number: 20190327-5225.

Comments Due: 5 p.m. ET 4/8/19.

Docket Numbers: RP19-925-000.

Applicants: Texas Eastern Transmission, LP.

Description: § 4(d) Rate Filing: Negotiated Rate—Chevron to Eco-Energy 8956845 to be effective 4/1/2019.

Filed Date: 3/27/19.

Accession Number: 20190327-5180.

Comments Due: 5 p.m. ET 4/8/19.

Docket Numbers: RP19-926-000.

Applicants: Rendezvous Pipeline Company, LLC.

Description: Compliance filing NAESB Compliance Filing—Order No. 587-Y to be effective 8/1/2019.

Filed Date: 3/27/19.

Accession Number: 20190327-5178.

Comments Due: 5 p.m. ET 4/8/19.

Docket Numbers: RP19-927-000.

Applicants: Bison Pipeline LLC.

Description: Compliance filing Compliance to Docket No. RM96-1-041 to be effective 8/1/2019.

Filed Date: 3/27/19.

Accession Number: 20190327-5213.

Comments Due: 5 p.m. ET 4/8/19.

Docket Numbers: RP19-928-000.

Applicants: Sierrita Gas Pipeline LLC.

Description: Compliance filing Order No. 587-Y Compliance Filing to be effective 8/1/2019.

Filed Date: 3/27/19.

Accession Number: 20190327-5215.

Comments Due: 5 p.m. ET 4/8/19.

Docket Numbers: RP19-929-000.

Applicants: TransColorado Gas Transmission Company LLC.

Description: Compliance filing Order No. 587-Y Compliance Filing to be effective 8/1/2019.

Filed Date: 3/27/19.

Accession Number: 20190327-5217.

Comments Due: 5 p.m. ET 4/8/19.

Docket Numbers: RP19-930-000.

Applicants: El Paso Natural Gas Company, L.L.C.

Description: Compliance filing Order No. 587-Y Compliance Filing to be effective 8/1/2019.

Filed Date: 3/27/19.

Accession Number: 20190327-5218.

Comments Due: 5 p.m. ET 4/8/19.

Docket Numbers: RP19-931-000.

Applicants: Ruby Pipeline, L.L.C.

Description: Compliance filing Order No. 587-Y Compliance Filing to be effective 8/1/2019.

Filed Date: 3/27/19.

Accession Number: 20190327-5219.

Comments Due: 5 p.m. ET 4/8/19.

Docket Numbers: RP19-932-000.

Applicants: Northern Border Pipeline Company.

Description: Compliance filing Compliance to Docket No. RM96-1-041 to be effective 8/1/2019.

Filed Date: 3/27/19.

Accession Number: 20190327-5220.

Comments Due: 5 p.m. ET 4/8/19.

Docket Numbers: RP19-933-000.

Applicants: Mojave Pipeline Company, L.L.C.

Description: Compliance filing Order No. 587-Y Compliance Filing to be effective 8/1/2019.

Filed Date: 3/27/19.

Accession Number: 20190327-5221.

Comments Due: 5 p.m. ET 4/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2019.
Nathaniel J. Davis, Sr.,
Deputy Secretary.

[FR Doc. 2019-06456 Filed 4-2-19; 8:45 am]

BILLING CODE 6717-01-P